DEPARTMENT OF COMMERCE

National Oceanic and Atmospheric Administration

[RTID 0648-XA854]

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day public virtual meeting in March to discuss the items contained in the agenda in the SUPPLEMENTARY INFORMATION.

DATES: The OEAP virtual meeting will be held on March 17, 2021, from 12 p.m. to 3 p.m. and on March 18, 2021, from 12 p.m. to 3 p.m.

ADDRESSES: You may join the OEAP public virtual meeting (via Zoom) from a computer, tablet or smartphone by entering the following address:

Join OEAP Zoom Meeting https://us02web.zoom.us/j/84039986774?pwd=SUhDc1hXeFloQWF3ajVtL2ZHRGN3Zz09

Meeting ID: 840 3998 6774

Passcode: 179728

One tap mobile

+17879667727,,84039986774#,,,,*179728# Puerto Rico

+19399450244,,84039986774#,,,,*179728# Puerto Rico

Dial by your location

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 840 3998 6774

Passcode: 179728

FOR FURTHER INFORMATION CONTACT: Diana Martino (787) 226-8849, Caribbean Fishery Management Council, 270 Muñoz Rivera Avenue, Suite 401, San Juan, Puerto Rico 00918-1903.

SUPPLEMENTARY INFORMATION:

March 17, 2021

12:p.m.-1 p.m.

—Call to Order

—Adoption of Agenda

—OEAP Chairperson's Report

—Updates:

—CFMC Arrangements for Virtual Meetings

—Status of Fisher's Communities COVID-19

—Posters Produced

—Issues/Activities in U.S.V.I. and PR

1 p.m.-1:10 p.m.

—Break

1:10 p.m.-3 p.m.

—Responsible Seafood Consumption Campaign

—Recipe Cookbook for Puerto Rico and the U.S. Virgin Islands

—St. Thomas/St. John, U.S.V.I. MPA Project

—UPRSG-CFMC

March 18, 2021

12 p.m.-1 p.m.

—Fishery Ecosystem Based Management Plan (FEBMP)

1 p.m.-1:10 p.m.

—Break

1:10 p.m.-3 p.m.

—2022 Calendar

—CFMC Facebook, Instagram and YouTube Communications with Stakeholders

—Other Business

The order of business may be adjusted as necessary to accommodate the completion of agenda items. The meeting will begin on March 17, 2021 at 12 p.m. and will end on March 18, 2021, at 3 p.m. Other than the start time, interested parties should be aware that discussions may start earlier or later than indicated. In addition, the meeting may be extended from, or completed prior to the date established in this notice.

Special Accommodations

For any additional information on this public virtual meeting, please contact Diana Martino, Caribbean Fishery Management Council, 270 Muñoz Rivera Avenue, Suite 401, San Juan, Puerto Rico, 00918-1903; telephone: (787) 226-8849.

(Authority: 16 U.S.C. 1801 et seq.)

Dated: February 8, 2021.
Tracey L. Thompson,
Acting Deputy Director, Office of Sustainable Fisheries, National Marine Fisheries Service.

[FR Doc. 2021-02826 Filed 2-10-21; 8:45 am]

BILLING CODE 3510-22-P